DEPARTMENT OF THE INTERIOR

Bureau of Indian Affairs

[AAK6006201 145A2100DD AOR3030.999900]

Notice of Intent To Prepare an Environmental Impact Statement for Aiya Solar Project on the Moapa River Indian Reservation, Clark County, NV

AGENCY: Bureau of Indian Affairs, Interior.

ACTION: Notice.

SUMMARY: In order to comply with the National Environmental Policy Act (NEPA), the Bureau of Indian Affairs (BIA), as lead agency in cooperation with the Moapa Band of Paiute Indians (Moapa Band), the Bureau of Land Management (BLM), and other Federal agencies, intend to prepare an environmental impact statement (EIS) that will evaluate a photovoltaic solar energy generation project on the Moapa River Indian Reservation and a transmission line located on tribal lands, private lands and Federal lands administered and managed by BLM in Clark County, Nevada.

This notice announces the beginning of the scoping process to solicit public comments and identify potential issues related to the EIS. It also announces that two public scoping meetings will be held in Nevada to identify potential issues, alternatives, and mitigation to be considered in the EIS.

DATES: The dates and locations of the public scoping meetings will be published in the Las Vegas Sun, Las Vegas Review-Journal, and Moapa Valley Progress 15 days before the scoping meetings. Written comments on the scope of the EIS or implementation of the proposal must arrive by December 22, 2014.

ADDRESSES: You may mail, email, or hand carry written comments to either Mr. Paul Schlafly, Natural Resource Specialist, Bureau of Indian Affairs, Southern Paiute Agency, 180 North 200 East Suite 111, P.O. Box 720, St. George, Utah 84770; telephone: (435) 674-9720; email: paul.schlafly@bia.gov, or Mr. Chip Lewis, Acting Regional Environmental Compliance Officer, BIA Western Regional Office, 2600 North Central Avenue, 4th Floor Mailroom, Phoenix, Arizona 85004; telephone: (602) 379-6782; email: chip.lewis@bia.gov.

SUPPLEMENTARY INFORMATION: The proposed Federal action, taken under 25 U.S.C. 415, is BIA's approval of a solar energy ground lease and associated agreements entered into by the Moapa Band with a subsidiary of First Solar, Inc. (First Solar) to provide for construction and operation of an up-to 100 megawatt (MW) alternating current solar photovoltaic (PV) electricity generation facility located entirely on the Moapa River Indian Reservation and specifically on lands held in trust by BIA for the Moapa Band. The proposed 230 kilovolt (kV) generation-tie transmission line required for interconnection may be located on Tribal lands, private lands and/or Federal lands administered and managed by BLM. First Solar has accordingly requested that the BIA and BLM additionally approve right-of-ways (ROWs) authorizing the construction and operation of the transmission line. Together, the proposed solar energy facility, transmission line, and other associated facilities will make up the proposed Moapa River Solar Project (Project).

The Project would be located in Township 14 South, Range 66 East, Sections 29, 30, 31, and 32 Mount Diablo Meridian, Nevada. The generation facility would generate electricity using First Solar's PV panels. Also included would be inverters, a collection system, an on-site substation to step-up the voltage to transmission-level voltage at 230 kV, an operations and maintenance building, and other related facilities. A single overhead 230 kV generation-tie transmission line, approximately 1.5 to 3 miles long, would connect the solar project to either NV Energy's Reid-Gardner 230kV substation or the proposed Reid Gardner Collector Substation, which is under development by NV Energy.

Construction of the Project is expected to take approximately 12 to 15 months. First Solar is expected to operate the energy facility for 30 years, with two options to renew the lease for an additional 10 years, if mutually acceptable to the Moapa Tribe and First Solar. The Project is expected to be built in one phase of up to 100 MW, per the demand of potential off-takers or utilities. During construction, the PV panels will be placed on top of fixed-tilt and/or single-axis tracking mounting systems that are set on steel posts embedded in the ground. Other foundation design techniques may be used depending on the site topography and conditions. No water will be used to generate electricity during operations. Water will be needed during construction for dust control and a minimal amount will be needed during operations for landscape irrigation and administrative and sanitary water use on site. The water supply required for the Project would be leased from the Moapa Band and the EIS will consider the impacts of alternative sources and delivery methods.

The purposes of the Project are to: (1) Help to provide a long-term, diverse, and viable economic revenue base and job opportunities for the Moapa Band; (2) help Nevada and neighboring States to meet their State renewable energy needs; and (3) allow the Moapa Band, in partnership with First Solar, to optimize the use of the lease site while maximizing the potential economic benefit to the Tribe.

The BIA will prepare the EIS in cooperation with the Moapa Band, BLM, and possibly the Army Corps of Engineers, Environmental Protection Agency, and National Park Service. In addition, the U.S. Fish and Wildlife Service (USFWS) will provide input on the analysis. The resulting EIS will aim to: (1) Provide agency decision makers, the Moapa Band, and the general public with a comprehensive understanding of the impacts of the proposed Project and alternatives on the Reservation; (2) describe the cumulative impacts of increased development on the Reservation; and (3) identify and propose mitigation measures that would minimize or prevent significant adverse impacts. Consistent with these objectives, the EIS will analyze the proposed Project and appurtenant features, viable alternatives including other interconnection options, modified footprint alternatives, alternate routing for Project ROWs, and the No Action alternative. Other alternatives may be identified in response to issues raised during the scoping process.

The EIS will provide a framework for BIA and BLM to make determinations and to decide whether to take the aforementioned Federal actions. In addition, BIA will use and coordinate the NEPA commenting process to satisfy its obligations under Section 106 of the National Historic Preservation Act (16 U.S.C. 470f) as provided for in 36 CFR 800.2(d)(3). Tribal consultations will be conducted in accordance with policy, and tribal concerns will be given due consideration, including impacts on Indian trust assets. Other Federal agencies may rely on the EIS to make decisions under their authority and the Moapa Band may also use the EIS to make decisions under their Tribal Environmental Policy Ordinance. The USFWS will review the EIS for consistency with the Endangered Species Act, as amended, and other implementing acts, and may rely on the EIS to support its decisions and opinions regarding the Project.

Issues to be covered during the scoping process may include, but would not be limited to, Project impacts on: Air quality, geology and soils, surface and groundwater resources, biological resources, threatened and endangered species, cultural resources, socioeconomic conditions, land use, aesthetics, environmental justice, and Indian trust resources. In addition to those already identified above, Federal, State, and local agencies, along with other stakeholders that may be interested or affected by the BIA's decision on the proposed Project, are invited to participate in the scoping process.

Directions for Submitting Comments

Please include your name, return address, and the caption “EIS, First Solar Solar Project,” on the first page of any written comments. You may also submit comments at the public scoping meetings.

The public scoping meetings will be held to further describe the Project and identify potential issues and alternatives to be considered in the EIS. The first public scoping meeting will be held on the Reservation and the other public scoping meeting will be held in Las Vegas, Nevada. The dates of the public scoping meetings will be included in notices to be posted in the Las Vegas Sun, Las Vegas Review-Journal, and Moapa Valley Progress 15 days before the meetings.

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior Regulations implementing the procedural requirements of the NEPA (42 U.S.C. 4321 et seq.), and in accordance with the exercise of authority delegated to the Assistant Secretary—Indian Affairs by part 209 of the Department Manual.

Dated: November 14, 2014.
Kevin K. Washburn,
Assistant Secretary—Indian Affairs.

[FR Doc. 2014-27642 Filed 11-20-14; 8:45 am]

BILLING CODE 4310-W7-P